NATIONAL AERONAUTICS AND SPACE ADMINISTRATION

[Notice (16-045)]

Notice of Intent To Grant a Partially Exclusive License

AGENCY: National Aeronautics and Space Administration.

ACTION: Notice of Intent to Grant a Partially Exclusive License.

SUMMARY: This notice is issued in accordance with 35 U.S.C. 209(e) and 37 CFR 404.7(a)(1)(i). NASA hereby gives notice of its intent to grant a partially exclusive license in the United States to practice the invention described and claimed in U.S. Patent No. 7,086,593 B2 titled “Magnetic Field Response Measurement Acquisition System,” NASA Case No. LAR-16908-1; U.S. Patent No. 7,047,807 B2 titled “Flexible Framework for Capacitive Sensing,” NASA Case No. LAR-16974-1; U.S. Patent No. 7,159,774 B2 titled “Magnetic Field Response Measurement Acquisition System,” NASA Case No. LAR-17280-1; U.S. Patent No. 8,167,204 B2 titled “Wireless Damage Location Sensing System,” NASA Case No. LAR-17593-1; U.S. Patent No. 8,179,203 B2 titled “Wireless Electrical Device Using Open-Circuit Elements Having No Electrical Connections,” NASA Case No. LAR-17711-1; U.S. Patent No. 8,430,327 B2 titled “Wireless Sensing System Using Open-Circuit, Electrically-Conductive Spiral-Trace Sensor,” NASA Case No. LAR-17294-1; U.S. Patent Application No. 14/520,785 titled “Multi-Layer Wireless Sensor Construct for Use at Electrically Conductive Material Surfaces,” NASA Case No. LAR-18399-1; U.S. Patent Application No. 14/520,863 titled “Antenna for Far Field Transceiving,” NASA Case No. LAR-18400-1; U.S. Patent Application No. 14/520,679 titled “Plasma Generator Using Spiral Conductors,” NASA Case No. LAR-18401-1, to Remcal Products having its principal place of business in Warrington, PA. The fields of use may be limited to, but not necessarily limited to, nondestructive evaluation and testing of manufactured products (including molded plastic parts, rubber parts, extruded parts and machined parts) using hand-held probes and/or custom-designed test assemblies. The patent rights in these inventions have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR. 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, Office of Chief Counsel, MS 30, NASA Langley Research Center, Hampton, VA 23681; (757) 864-3230 (phone), (757) 864-9190 (fax).

FOR FURTHER INFORMATION CONTACT: Robin W. Edwards, Patent Counsel, Office of Chief Counsel, MS 30, NASA Langley Research Center, Hampton, VA 23681; (757) 864-3230; Fax: (757) 864-9190. Information about other NASA inventions available for licensing can be found online at http://technology.nasa.gov.

Mark P. Dvorscak,
Agency Counsel for Intellectual Property.

[FR Doc. 2016-15860 Filed 7-5-16; 8:45 am]

BILLING CODE 7510-13-P